SMALL BUSINESS ADMINISTRATION

[Disaster Declaration # 10855 and # 10856]

New Jersey Disaster Number NJ-00006

AGENCY: U.S. Small Business Administration.

ACTION: Amendment 2.

SUMMARY: This is an amendment of the Presidential declaration of a major disaster for the State of New Jersey (FEMA-1694-DR), dated 04/26/2007.

Incident: Severe Storms and Inland and Coastal Flooding.

Incident Period: 04/14/2007 through 04/20/2007.

Effective Date: 04/30/2007.

Physical Loan Application Deadline Date: 06/25/2007.

Eidl Loan Application Deadline Date: 01/28/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of New Jersey, dated 04/26/2007 is hereby amended to include the following areas as adversely affected by the disaster:

Primary Counties:

Camden, Gloucester, Mercer.

Contiguous Counties:

New Jersey, Cumberland, Salem, Delaware, New Castle, Pennsylvania and Delaware.

All other information in the original declaration remains unchanged.

(Catalog of Federal Domestic Assistance Numbers 59002 and 59008)

Herbert L. Mitchell,
Associate Administrator for Disaster Assistance.

[FR Doc. E7-8831 Filed 5-8-07; 8:45 am]

BILLING CODE 8025-01-P